DEPARTMENT OF COMMERCE

International Trade Administration

[A-570-863]

Honey from the People's Republic of China: Partial Rescission of Antidumping Duty Administrative Review

AGENCY: Import Administration, International Trade Administration, Department of Commerce.

DATES: Effective Date: March 9, 2011.

FOR FURTHER INFORMATION CONTACT: Catherine Bertrand, AD/CVD Operations, Office 9, Import Administration, International Trade Administration, U.S. Department of Commerce, 14th Street and Constitution Avenue, NW., Washington, DC 20230; telephone (202) 482-3207.

Background

On January 28, 2011, the Department of Commerce (“Department”) published a notice of initiation of an administrative review of the antidumping duty order on honey from the People's Republic of China (“PRC”) covering the period December 1, 2009, through November 30, 2010. See Initiation of Antidumping and Countervailing Duty Administrative Reviews, 76 FR 5137 (January 28, 2011).

On February 24, 2011, the American Honey Producers Association and Sioux Honey Association (collectively “Petitioners”) withdrew their request for an administrative review for the following companies: Ahcof Industrial Development Corp., Ltd.; Alfred L. Wolff (Beijing) Co., Ltd.; Anhui Honghui Foodstuff (Group) Co., Ltd.; Anhui Honghui Import & Export Trade Co., Ltd.; Anhui Cereals Oils and Foodstuffs I/E (Group) Corporation; Anhui Hundred Health Foods Co., Ltd.; Anhui Native Produce Imp & Exp Corp.; APM Global Logistics (Shanghai) Co.; Baiste Trading Co., Ltd.; Cheng Du Wai Yuan Bee Products Co., Ltd.; Chengdu Stone Dynasty Art Stone; Damco China Limited Qingdao Branch; Eurasia Bee's Products Co., Ltd.; Feidong Foreign Trade Co., Ltd.; Fresh Honey Co., Ltd. (formerly Mgl. Yun Shen); Golden Tadco Int'l; Hangzhou Golden Harvest Health Industry Co., Ltd.; Haoliluck Co., Ltd.; Hengjide Healthy Products Co. Ltd.; Hubei Yusun Co., Ltd.; Inner Mongolia Altin Bee-Keeping; Inner Mongolia Youth Trade Development Co., Ltd.; Jiangsu Cereals, Oils Foodstuffs Import Export (Group) Corp.; Jiangsu Kanghong Natural Healthfoods Co., Ltd.; Jiangsu Light Industry Products Imp & Exp (Group) Corp.; Jilin Province Juhui Import; Maersk Logistics (China) Company Ltd.; Nefelon Limited Company; Ningbo Shengye Electric Appliance; Ningbo Shunkang Health Food Co., Ltd.; Ningxia Yuehai Trading Co., Ltd.; Product Source Marketing Ltd.; Qingdao Aolan Trade Co., Ltd.; QHD Sanhai Honey Co., Ltd.; Qinhuangdao Municipal Dafeng Industrial Co., Ltd.; Renaissance India Mannite; Shaanxi Youthsun Co., Ltd.; Shanghai Bloom International Trading Co., Ltd.; Shanghai Foreign Trade Co., Ltd.; Shanghai Hui Ai Mal Tose Co., Ltd.; Shanghai Taiside Trading Co., Ltd.; Shine Bal Co., Ltd.; Sichuan-Dujiangyan Dubao Bee Industrial Co., Ltd.; Silverstream International Co., Ltd.; Sunnice Honey; Suzhou Aiyi IE Trading Co., Ltd.; Suzhou Shanding Honey Product Co., Ltd.; Tianjin Eulia Honey Co., Ltd.; Tianjin Weigeda Trading Co., Ltd.; Wanxi Haohua Food Co., Ltd.; Wuhan Bee Healthy Co., Ltd.; Wuhan Shino-Food Trade Co., Ltd.; Wuhu Anjie Food Co., Ltd.; Wuhu Deli Foods Co. Ltd.; Wuhu Fenglian Co., Ltd.; Wuhu Qinshi Tangye; Xinjiang Jinhui Food Co., Ltd.; Youngster International Trading Co., Ltd.; and, Zhejiang Willing Foreign Trading Co.

Petitioners were the only party to request a review of these companies.

Partial Rescission

Pursuant to 19 CFR 351.213(d)(1), the Secretary will rescind an administrative review, in whole or in part, if a party who requested the review withdraws the request within 90 days of the date of publication of notice of initiation of the requested review. Petitioners' request was submitted within the 90-day period and, thus, is timely. Because Petitioners' withdrawal of requests for review is timely and because no other party requested a review of the aforementioned companies, in accordance with 19 CFR 351.213(d)(1), we are rescinding this review with respect to the above listed companies.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice for those companies with a separate rate.

For the above companies that are part of the PRC-wide entity, Department cannot order liquidation at this time because although they are no longer under review as a separate entity, they may still be under review as part of the PRC-wide entity. Therefore, the Department cannot order liquidation instructions at this time because their respective entries may be under review in the ongoing administrative review. The Department intends to issue assessment instructions for the PRC-wide entity 15 days after publication of the final results of the ongoing administrative review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: March 3, 2011.
Christian Marsh,
Deputy Assistant Secretary for Antidumping and Countervailing Duty Operations.

[FR Doc. 2011-5393 Filed 3-8-11; 8:45 am]

BILLING CODE 3510-DS-P